DEPARTMENT OF TRANSPORTATION

Office of the Secretary

Aviation Proceedings, Agreements Filed the Week Ending October 22, 2004

The following Agreements were filed with the Department of Transportation under the provisions of 49 U.S.C. Sections 412 and 414. Answers may be filed within 21 days after the filing of the application.

Docket Number: OST-2004-19457.

Date Filed: October 20, 2004.

Parties: Members of the International Air Transport Association.

Subject: CTC COMP 0505 dated 22 October 2004, Mail Vote 416, Special Cargo Amending Resolution, Add-On Resolution r1-r2, Minutes: CTC COMP 0504 dated 15 October 2004, Intended effective date: 1 February 2005.

Docket Number: OST-2004-19459.

Date Filed: October 20, 2004.

Parties: Members of the International Air Transport Association.

Subject: PTC2 EUR0 586 dated 22 October 2004, PTC2 Within Europe Expedited Resolutions r1-r12, Intended effective date: 1 December 2004.

Docket Number: OST-2004-19475.

Date Filed: October 22, 2004.

Parties: Members of the International Air Transport Association.

Subject: Mail Vote 417, PTC COMP 1197 dated 22 October 2004, Resolution 010a—Special Passenger Amending, Resolution r1-r2, Intended effective date: 1 November 2004.

Andrea M. Jenkins,
Program Manager, Federal Register Liaison.

[FR Doc. 04-24683 Filed 11-4-04; 8:45 am]

BILLING CODE 4910-62-P